FEDERAL COMMUNICATIONS COMMISSION

Sunshine Act Meetings

Open Commission Meeting

Wednesday, February 28, 2013

FCC Provides Additional Details Regarding the Second National Hearing on Network Resilience and Reliability

The Federal Communications Commission (FCC) provides a more detailed agenda for the field hearing scheduled for February 28, 2013, in Moffett Field, California. This event is the second in a planned series of field hearings to examine challenges to the nation's communications networks during natural disasters and in other times of crisis.¹

¹ This meeting was previously announced in a Public Notice, DA 13-245 (Feb. 20, 2013), but that public notice inadvertently was not published in the Federal Register. The Commission has determined that, to the extent the previous public notice was insufficient for purposes of Section 0.605, the prompt and orderly conduct of the Commission's business requires that this notice be issued less than one week prior to the meeting and that earlier notice was not practicable, since the failure to publish the earlier public notice was just discovered. Action by the Commission, February 26, 2013.

The hearing information is as follows:

Date: February 28, 2013

Location: NASA Ames Research Center, Moffett Field, CA 94035

1:00 p.m. (PST): Welcome and Opening Remarks

1:40 p.m.: Panel #1: Innovative network technologies and smart power solutions to improve communications network resiliency in times of disaster

• Hirohito Noda, Chief Representative of the Washington, DC, Office, NTT DOCOMO USA, Inc.

• Nayeem Islam, Vice President and Head of Qualcomm Research Silicon Valley

• Haresh Kamath, Program Manager for Energy Storage, Electric Power Research Institute

• Thomas Nagel, Senior Vice President, Business Development and Strategy, Communications and Data Services, Comcast

2:35 p.m.: Panel #2: Employing innovative social media, open data and geo-location apps to enhance communications during emergencies

• Alicia Johnson, Resilience and Recovery Manager, City of San Francisco Department of Emergency Management

• Fred Wolens, Public Policy Team Member, Facebook

• Ari Gesher, Senior Software Engineer and Engineering Ambassador, Palantir Technologies

• George Chamales, Principal, Rogue Genius LLC

3:30 p.m.: End of Hearing

The FCC will attempt to accommodate as many attendees as possible; however, admittance will be limited to seating availability. The Commission will provide audio and/or video coverage of the meeting over the Internet from the FCC's Web page at http://www.fcc.gov/live. Open captioning will be provided for this event. Other reasonable accommodations for people with disabilities are available upon request. Requests for such accommodations should be submitted via email to fcc504@fcc.gov or by calling the Consumer & Governmental Affairs Bureau at (202) 418-0530 (voice), (202) 418-0432 (tty). Such requests should include a detailed description of the accommodation needed. In addition, please include a way the FCC can contact you if it needs more information. Please allow as much advance notice as possible; last-minute requests will be accepted, but may be impossible to fill.

We also take this opportunity to remind the public that presentations to decision-making personnel that go to the merits or outcome of the Commission's pending permit-but-disclose proceeding in PS Docket 11-60 regarding network reliability and resiliency, see Reliability and Continuity of Communications Networks, Including Broadband Technologies, Notice of Inquiry, 26 FCC Rcd 5614 (2011), must comply with the Commission's ex parte rules, see, e.g., 47 CFR 1.1200 et seq. Interested parties are also invited to submit written comments in this public docket.

For additional information about the meeting, please contact Gene Fullano, Associate Bureau Chief, Public Safety and Homeland Security Bureau, at (202) 418-0492 or genaro.fullano@fcc.gov.

Federal Communications Commission.
Marlene H. Dortch,
Secretary.

[FR Doc. 2013-04967 Filed 2-28-13; 11:15 am]

BILLING CODE 6712-01-P